DEPARTMENT OF THE TREASURY

Internal Revenue Service

26 CFR Parts 1, 54, and 602

[TD 9052]

RIN 1545-BA08

Notice of Significant Reduction in the Rate of Future Benefit Accrual; Correction

AGENCY: Internal Revenue Service (IRS), Treasury.

ACTION: Correction to final regulations.

SUMMARY: This document contains corrections to final regulations that were published in the Federal Register on Wednesday, April 9, 2003 (68 FR 17277). This document contains final regulations providing guidance on the notification requirements under section 4908F of the Internal Revenue Code (Code) and section 204(h) of the Employee Retirement Income Security Act of 1974 (ERISA).

DATES: This correction is effective April 9, 2003.

FOR FURTHER INFORMATION CONTACT: Pamela R. Kinard (202) 622-6060 (not a toll-free number).

SUPPLEMENTARY INFORMATION:

Background

The final regulations that are the subject of this correction are under section 4980F of the Internal Revenue Code and section 204(h) of the Employee Retirement Income Security Act of 1974 (ERISA).

Need for Correction

As published, final regulations (TD 9052) contains errors that may prove to be misleading and are in need of clarification.

Correction of Publication

Accordingly, the publication of the final regulations (TD 9052), which is the subject of FR. Doc. 03-8290, is corrected as follows:

1. On page 17280, column 2, in the preamble, under the subject heading “Effective Date”, line 4, the language “is on or after September 2, 2003.” is corrected to read “is on or after September 1, 2003.”.

§ 54.4980F-1 [Corrected]

2. In § 54.4980F-1, paragraph (b)(1), the language “September 2, 2003.” is corrected to read “September 1, 2003.”

Cynthia E. Grigsby,
Chief, Regulations Unit, Associate Chief Counsel (Procedure and Administration).

[FR Doc. 03-11369 Filed 5-6-03; 8:45 am]

BILLING CODE 4830-01-P